DEPARTMENT OF ENERGY

10 CFR Parts 429, 430, and 431

[EERE-2013-BT-STD-0030, EERE-2013-BT-STD-0033, EERE-2013-BT-STD-0040 and EERE-2016-BT-STD-0022]

RINs 1904-AD01, 1904-AD02, 1904-AC83 and 1904-AD69

Energy Conservation Program: Energy Conservation Standards

AGENCY: Office of Energy Efficiency and Renewable Energy, Department of Energy.

ACTION: Final action; implementation of court order.

SUMMARY: Pursuant to an order from the U.S. District Court for the Northern District of California in the consolidated cases of Natural Resources Defense Council, et al. v. Perry and People of the State of California et al. v. Perry, Case No. 17-cv-03404-VC, as affirmed by the U.S. Court of Appeals for the Ninth Circuit in the consolidated cases Nos. 18-15380 and 18-15475, the Department of Energy (“DOE”) is publishing elsewhere in this issue of the Federal Register four final rule documents that either establish or amend the energy conservation standards for commercial packaged boilers, portable air conditioners, industrial air compressors, and uninterruptible power supplies.

DATES: January 10, 2020.

ADDRESSES: The docket, which includes Federal Register notices, comments, and other supporting documents/materials, is available for review at http://www.regulations.gov. All documents in the docket are listed in the http://www.regulations.gov index. However, some documents listed in the index, such as those containing information that is exempt from public disclosure, may not be publicly available.

Docket: The docket web pages for each of the documents referenced in the summary above are listed in each individual document establishing or amending an energy conservation standard. The docket web page contains simple instructions on how to access all documents, including public comments, in the docket.

FOR FURTHER INFORMATION CONTACT: For further information on how to review the docket, contact the Appliance and Equipment Standards Program staff at (202) 586-6636 or by email: ApplianceStandardsQuestions@ee.doe.gov.

SUPPLEMENTARY INFORMATION: Elsewhere in this issue of the Federal Register, DOE is publishing four separate documents (“ECS documents”) that establish or amend the energy conservation standards for commercial packaged boilers, portable air conditioners, industrial air compressors, and uninterruptible power supplies. These four documents are being published to comply with an order from the U.S. District Court for the Northern District of California in the consolidated cases of Natural Resources Defense Council, et al. v. Perry and People of the State of California et al. v. Perry, Case No. 17-cv-03404-VC. This order was affirmed by the Ninth Circuit in a subsequent appeal, Case Nos. 18-15380 and 18-15475, and, accordingly, DOE is publishing these documents pursuant to the District Court's order.

Pursuant to this order, DOE submitted the documents, as originally signed and dated in 2016. By publishing this final action, DOE reaffirms the validity of the original signatures on the ECS documents under 1 CFR 18.1 and 18.7.

Each of the ECS documents is substantively identical to the documents previously posted to DOE's website. However, consistent with the normal publication process, each document has been reviewed and edited to ensure that the requirements set out by the Administrative Committee of the Federal Register (1 CFR chapter I) and the Office of the Federal Register (Document Drafting Handbook, www.archives.gov/federal-register/write/handbook/ddh/pdf) regarding formatting and organizational structure have been satisfied.

Signed in Washington, DC, on December 2, 2019.
Daniel Simmons,
Assistant Secretary for Energy Efficiency and Renewable Energy.

[FR Doc. 2019-26345 Filed 1-9-20; 8:45 am]

BILLING CODE 6450-01-P